ENVIRONMENTAL PROTECTION AGENCY

[FRL-8505-3]

Intent To Grant an Exclusive Patent License

AGENCY: Environmental Protection Agency (EPA).

ACTION: Notice of Intent To Grant an Exclusive License.

SUMMARY: Pursuant to 35 U.S.C. 207 (Patents) and 37 CFR part 404 (U.S. Government patent licensing regulations), EPA hereby gives notice of its intent to grant, for a specific field of use, an exclusive, royalty-bearing, revocable license to practice the invention described and claimed in the U.S. Patent No. 6,821,425, entitled “Biomass Concentrator Reactor,” issued November 23, 2004, and all corresponding patents issued throughout the world, and all reexamined patents and reissued patents granted in connection with such patent, to Purestream ES, L.L.C. of Walton, Kentucky.

The invention was announced as being available for licensing in the October 11, 2007 issue of the Federal Register (72 FR 57937). The proposed exclusive license will contain appropriate terms, limitations, and conditions to be negotiated in accordance with 35 U.S.C. 209 and 37 CFR 404.5 and § 404.7 of the U.S. Government patent licensing regulations.

EPA will negotiate the final terms and conditions and grant the exclusive license, unless within 15 days from the date of this notice EPA receives, at the address below, written objections to the grant, together with supporting documentation. The documentation from objecting parties having an interest in practicing the above patents should include an application for an exclusive or nonexclusive license with the information set forth in 37 CFR 404.8. The EPA Patent Attorney and other EPA officials will review all written responses and then make recommendations on a final decision to the Director or Deputy Director of the National Risk Management Research Laboratory, who have been delegated the authority to issue patent licenses under EPA Delegation 1-55.

DATES: Comments on this notice must be received by EPA at the address listed below by December 28, 2007.

FOR FURTHER INFORMATION CONTACT: Laura Scalise, Patent Attorney, Office of General Counsel (Mail Code 2377A), Environmental Protection Agency, Washington, DC 20460, telephone (202) 564-8303.

Dated: December 7, 2007.
Geoffrey Cooper,
Acting Associate General Counsel, General Law Office.

[FR Doc. 07-6043 Filed 12-12-07; 8:45 am]

BILLING CODE 6560-50-M